DEPARTMENT OF COMMERCE

International Trade Administration

[C-570-043]

Stainless Steel Sheet and Strip From the People's Republic of China: Rescission of Countervailing Duty Administrative Review; 2018

AGENCY: Enforcement and Compliance, International Trade Administration, Department of Commerce.

SUMMARY: The Department of Commerce (Commerce) is rescinding the administrative review of the countervailing duty (CVD) order on stainless steel sheet and strip (SSSS) from the People's Republic of China (China) for the period January 1, 2018 through December 31, 2018.

DATES: Applicable January 6, 2020.

FOR FURTHER INFORMATION CONTACT: Charlotte Baskin-Gerwitz, Enforcement and Compliance, AD/CVD Operations, Office VII, International Trade Administration, U.S. Department of Commerce, 1401 Constitution Avenue NW, Washington, DC 20230; telephone: (202) 482-4880.

SUPPLEMENTARY INFORMATION:

Background

On April 1, 2019, Commerce published a notice of opportunity to request an administrative review of the CVD order on SSSS from China for the period January 1, 2018 through December 31, 2018.¹ On April 30, 2019, AK Steel Corporation, Allegheny Ludlum LLC d/b/a ATI Flat Rolled Products, North American Stainless, and Outokumpu Stainless USA LLC (collectively, the petitioners), requested an administrative review of exports of subject merchandise to the United States by specific companies in China.² On June 13, 2019, in accordance with section 751(a) the Tariff Act of 1930, as amended (the Act), and 19 CFR 351.221(c)(1)(i), we initiated an administrative review of the order on SSSS from China.³ On June 19, 2019, the petitioners timely withdrew their request for an administrative review with respect to all entities for which they had requested a review.⁴

¹ See Antidumping or Countervailing Duty Order, Finding, or Suspended Investigation; Opportunity to Request Administrative Review, 84 FR 12207 (April 1, 2019).

² See Petitioner's Letter, “Countervailing Duty Order on Stainless Steel Sheet and Strip from the People's Republic of China—Petitioners' Request for Initiation of Second Administrative Review,” dated April 30, 2019.

³ See Initiation of Antidumping and Countervailing Duty Administrative Reviews, 84 FR 27587 (June 13, 2019).

⁴ See Petitioner's Letter, “Countervailing Duty Order on Stainless Steel Sheet and Strip from the People's Republic of China—Petitioners' Withdrawal of Requests for Second Administrative Review,” dated June 19, 2019.

Rescission of Review

Pursuant to 19 CFR 351.213(d)(1), Commerce will rescind an administrative review, “in whole or in part, if a party that requested the review withdraws the request within 90 days of the date of publication of the notice of initiation of the requested review.” The petitioners withdrew their request within the 90-day time limit. Because we received no other requests for review of the order on SSSS from China, we are rescinding the administrative review of the order in its entirety, in accordance with 19 CFR 351.213(d)(1).

Assessment

Commerce will instruct U.S. Customs and Border Protection (CBP) to assess countervailing duties on all appropriate entries of SSSS from China during the period of review at rates equal to the cash deposit rate of estimated countervailing duties required at the time of entry, or withdrawal from warehouse, for consumption, in accordance with 19 CFR 351.212(c)(1)(i). Commerce intends to issue appropriate instructions to CBP 15 days after publication of this notice in the Federal Register.

Notification to Importers

This notice also serves as a final reminder to importers of their responsibility under 19 CFR 351.402(f)(2) to file a certificate regarding the reimbursement of countervailing duties prior to liquidation of the relevant entries during this review period. Failure to comply with this requirement could result in Commerce's presumption that reimbursement of countervailing duties occurred and the subsequent assessment of doubled countervailing duties.

Notification Regarding Administrative Protective Orders

This notice also serves as a reminder to parties subject to the administrative protective order (APO) of their responsibility concerning the disposition of proprietary information disclosed under an APO in accordance with 19 CFR 351.305(a)(3). Timely written notification of the return or destruction of APO materials, or conversion to judicial protective order, is hereby requested. Failure to comply with the regulations and terms of an APO is a violation which is subject to sanction.

Notification to Interested Parties

This notice is issued and published in accordance with sections 751(a)(1) and 777(i)(1) of the Act and 19 CFR 351.213(d)(4).

Dated: December 30, 2019.
James Maeder,
Deputy Assistant Secretary for Antidumping and Countervailing Duty Operations.

[FR Doc. 2019-28493 Filed 1-3-20; 8:45 am]

BILLING CODE 3510-DS-P